FEDERAL COMMUNICATIONS COMMISSION

[OMB 3060-0798; FR ID 141653]

Information Collection Being Reviewed by the Federal Communications Commission

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid Office of Management and Budget (OMB) control number. No person shall be subject to any penalty for failing to comply with a collection of information subject to the PRA that does not display a valid OMB control number.

DATES: Written PRA comments should be submitted on or before July 24, 2023. If you anticipate that you will be submitting comments but find it difficult to do so within the period of time allowed by this notice, you should advise the contact listed below as soon as possible.

ADDRESSES: Direct all PRA comments to Cathy Williams, FCC, via email to PRA@fcc.gov and to Cathy.Williams@fcc.gov.

FOR FURTHER INFORMATION CONTACT: For additional information about the information collection, contact Cathy Williams at (202) 418-2918.

SUPPLEMENTARY INFORMATION:

OMB Control Number: 3060-0798.

Title: FCC Authorization for Radio Service Authorization; Wireless Telecommunications Bureau; Public Safety and Homeland Security Bureau.

Form Number: FCC Form 601.

Type of Review: Revision of a currently approved collection.

Respondents: Individual and households, Business or other for-profit entities, state, local, or tribal government, and not for profit institutions.

Number of Respondents: 255,552 respondents; 255,552 responses.

Estimated Time per Response: 0.5 to 1.25 hours.

Frequency of Response: Recordkeeping requirement; third party disclosure requirement, on occasion reporting requirement and periodic reporting requirement.

Obligation to Respond: Required to obtain or retain benefits. Statutory authority for these collections are contained in 47 U.S.C. 151, 152, 154, 154(i), 155(c), 157, 201, 202, 208, 214, 301, 302a, 303, 307, 308, 309, 310, 311, 314, 316, 319, 324, 331, 332, 333, 336, 534, 535, and 554 of the Communications Act of 1934.

Total Annual Burden: 225,808 hours.

Total Annual Cost: $72,474,000.

Needs and Uses: FCC Form 601 is a consolidated, multi-part application form that is used for market- based and site-based licensing for wireless telecommunications services, including public safety, which are filed through the Commission's Universal Licensing System (ULS) or any other electronic filing interface the Commission develops. FCC Form 601 is composed of a main form that contains administrative information and a series of schedules used for filing technical and other information. This form is used to apply for a new license, to amend or withdraw a pending application, to modify or renew an existing license, cancel a license, submit required notifications, request an extension of time to satisfy construction requirements, request an administrative update to an existing license (such as mailing address change), or request a Special Temporary Authority License. Respondents are required to submit FCC Form 601 electronically.

On January 18, 2023, the Commission adopted the 4.9 GHz Seventh Report and Order (FCC 23-3) where it concluded that collecting additional technical data on public safety operations in the 4.94-4.99 GHz band (4.9 GHz band) will improve interference protection and give public safety licensees more confidence in the band without adding a significant burden on licensees or applicants. The Commission also established a Band Manager to coordinate operations in the 4.9 GHz band. The Band Manager will use the more granular technical data collected on public safety operations in ULS via the FCC Form 601 to perform frequency coordination and will be empowered to work with public safety licensees to ensure efficient use of this spectrum and enable new, non-commercial operations on a secondary, preemptable basis.

The Commission is creating two new radio service codes and directing applicants seeking to license 4.9 GHz band base/mobile, mobile-only or temporary fixed stations (new radio service code PB) to submit with their applications on FCC Form 601: coordinates (base), antenna height above average terrain (base), center frequency, emission designator, effective radiated power, number of units (mobile and temporary fixed), and area of operation (mobile and temporary fixed). Similarly, the Commission is directing applicants seeking to license 4.9 GHz band permanent fixed point-to-point, point-to-multi-point and fixed receiver stations (new radio service code PF) to submit with their applications on FCC Form 601: transmitter and receiver antenna coordinates, frequencies, polarizations, tolerance, effective isotropic radiated power, emission designator, type of modulation, antenna model, gain, antenna center line height(s) above ground level and ground elevation above mean sea level, and path azimuth and distance.

The current FCC Form 601 already collects the information detailed above on Schedules D, H and I, but existing 4.9 GHz band operations under radio service code PA are not currently required to utilize these schedules. The changes proposed herein will modify the instructions of the FCC Form 601 to include the two new radio service codes and to duplicate certain questions from Schedule D onto Schedule I regarding eligibility, extended implementation and associated call sign.

On July 18, 2022, the Commission released a Report and Order and Second Further Notice of Proposed Rulemaking, Partitioning, Disaggregation, and Leasing of Spectrum, WT Docket No. 19-38, FCC 22-53, in which the Commission established the Enhanced Competition Incentive Program (ECIP) to establish incentives for wireless radio service licensees to make underutilized spectrum available to small carriers, Tribal Nations, and entities serving rural areas (ECIP Report and Order in WT Docket No. 19-38, FCC 22-53). In the Report and Order, the Commission adopted a program under which any covered geographic area licensee may offer spectrum to an unaffiliated eligible entity through a partition and/or disaggregation, and any covered geographic area licensee eligible to lease in an included service may offer spectrum to an unaffiliated eligible entity through a long-term leasing arrangement. If the FCC finds that approval of an ECIP eligible assignment or lease is in the public interest, the agency will consent to the transaction and confer benefits, including five-year license term extensions, one year construction extensions, and substituted alternative construction requirements for rural-focused transactions. The Commission also established rules to permit reaggregation of geographic licenses.

In establishing the ECIP, the Commission requires applicants seeking to participate in the program to submit certain information that shows the transaction qualifies for ECIP inclusion. The Commission found that the ECIP builds on Congressional goals in the MOBILE NOW Act to incentivize beneficial transactions in the public interest that will promote greater competition in the provision of wireless services, facilitate increased availability of advanced wireless services in rural areas, facilitate new opportunities for small carriers and Tribal Nations to increase access to spectrum, and bring more advanced wireless service including 5G to underserved communities.

The ECIP related change created a new Schedule O, similar to schedule K, that will be used by certain ECIP Licensees to file either their Initial Operation Requirement Notifications (IORN) or their Final Operation Requirement Notifications (FORN), as required by 47 CFR 1.60004, 1.60006

The Commission now seeks approval for revisions to its currently approved collection of information under OMB Control Number 3060-0798 to permit the collection of the two changes. We anticipate that these revisions will have no impact on the hourly burden to complete FCC Form 601, as the existing burden already provides the appropriate estimate. The Commission therefore seeks approval for a revision to its currently approved information collection on FCC Form 601 to revise FCC Form 601 accordingly.

Federal Communications Commission.
Marlene Dortch,
Secretary, Office of the Secretary.

[FR Doc. 2023-11126 Filed 5-24-23; 8:45 am]

BILLING CODE 6712-01-P